DEPARTMENT OF ENERGY

[Docket No. EA-122-B]

Application to Export Electric Energy; Dynegy Power Marketing, Inc.

AGENCY: Office of Fossil Energy, DOE.

ACTION: Notice of application.

SUMMARY: Dynegy Power Marketing, Inc. (DYPM) has applied to renew of its authority to transmit electric energy from the United States to Canada pursuant to section 202(e) of the Federal Power Act.

DATES: Comments, protests or requests to intervene must be submitted on or before November 15, 2004.

ADDRESSES: Comments, protests or requests to intervene should be addressed as follows: Office of Coal & Power Systems (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-6667.

SUPPLEMENTARY INFORMATION: Exports of electricity from the United States to a foreign country are regulated and require authorization under section 202(e) of the Federal Power Act (FPA) (16 U.S.C. § 824a(e)).

On August 8, 1997, the Office of Fossil Energy (FE) of the Department of Energy (DOE) authorized DYPM, formerly Electric Clearinghouse, Inc., to transmit electric energy from the United States to Canada as a power marketer (Order No. EA-122). On October 15, 1999, that authorization to export electricity was renewed in EA-122-A for a period of five years which expired on October 15, 2004.

On October 18, 2004, the FE received an application from DYPM to renew its authorization to transmit energy from the United States to Canada for a term of five years. DYPM, a Texas corporation having its principal place of business in Houston, Texas is a power marketer that does not own or control any electric generation or transmission facilities nor does it have any franchised service territory in the United States.

In its application DYPM notes that it has had no electricity export transactions to Canada in the past several months. However, DYPM requests DOE to expedite the processing of its application in order to take advantage of certain market situations that could necessitate DYPM to make sales into the Ontario Independent Electricity Market Operator. Accordingly, DOE has shortened the public comment period to 15 days.

DYPM proposes to export electric energy to Canada and to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, Vermont Electric Power Company and Vermont Electric Transmission Company.

The construction of each of the international transmission facilities to be utilized by DYPM as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the DYPM application to export to electric energy to Canada should be clearly marked with Docket EA-122-B. Additional copies are to be filed directly with Betsy R. Carr, Sr. Director & Regulatory Counsel, and Steven F. Dalhoff, Director, Regulatory Affairs, Dynegy Power Marketing, Inc., 1000 Louisiana, Suite 5800, Houston, TX 77002-5050.

Copies of this application will be made available, upon request, for public inspection and copying at the address provided above or by accessing the Fossil Energy Home Page at http://www.fe.doe.gov. Upon reaching the Fossil Energy home page select “Electricity Regulation,” and then “Pending Proceedings” from the options menus.

Issued in Washington, DC, on October 26, 2004.
Anthony J. Como,
Deputy Director, Electric Power Regulation, Office of Fossil Energy.

[FR Doc. 04-24223 Filed 10-28-04; 8:45 am]

BILLING CODE 6450-01-P